DEPARTMENT OF HEALTH AND HUMAN SERVICES

National Institutes of Health

Eunice Kennedy Shriver National Institute of Child Health & Human Development; Amended Notice of Meeting

Notice is hereby given of a change in the meeting of the National Advisory Child Health and Human Development Council, September 09, 2025, 09:30 a.m. to September 10, 2025, 01:15 p.m., National Institutes of Health, Natcher Building, 45 Center Drive, Bethesda, MD, 20892 which was published in the Federal Register on July 29, 2025, 90 FR 35705.

The FRN was amended to reflect the correct end time for the second day council meeting on 9/10/2025. The meeting is partially closed to the public.

Dated: August 7, 2025.
Bruce A. George,
Program Analyst, Office of Federal Advisory Committee Policy.

[FR Doc. 2025-15237 Filed 8-11-25; 8:45 am]

BILLING CODE 4140-01-P